COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products and services to be furnished by nonprofit agencies employing persons who are blind or have other severe disabilities.

Comments must be received on or before: December 1, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Bag, Trash, Cloth

2090-01-478-3561.

NPA: West Texas Lighthouse for the Blind, San Angelo, Texas.

Contract Activity: Defense Supply Center Columbus, Columbus, Ohio.

Product/NSN: Can, Friction Top

8110-00-178-8291

8110-00-178-8292.

NPA: East Texas Lighthouse for the Blind, Tyler, Texas.

Contract Activity: Defense Supply Center Philadelphia, Philadelphia, Pennsylvania.

Product/NSN: Container Fuel Sample

8110-01-371-8315.

NPA: East Texas Lighthouse for the Blind, Tyler, Texas.

Contract Activity: Defense Supply Center Philadelphia, Philadelphia, Pennsylvania.

Product/NSN: Cushion Seat, Vehicular

2540-01-107-3371.

NPA: Work Services Corporation, Wichita Falls, Texas.

Contract Activity: Defense Supply Center Columbus, Columbus, Ohio.

Product/NSN: Highlighter, Fluorescent, Flat

7520-00-NIB-1620

7520-01-238-1728.

NPA: Winston-Salem Industries for the Blind, Winston-Salem, North Carolina.

Contract Activity: Office Supplies & Paper Products Acquisition Center, New York, New York.

Product/NSN: Highlighters, Free-Ink, Flat

7520-00-NIB-1625

7520-00-NIB-1630

7520-00-NIB-1631.

NPA: Winston-Salem Industries for the Blind, Winston-Salem, North Carolina.

Contract Activity: Office Supplies & Paper Products Acquisition Center, New York, New York.

Product/NSN: Windsock

8345-00-NSH-0001 (NFES-308).

NPA: Development Workshop, Inc., Idaho Falls, Idaho.

Contract Activity: BLM National Interagency Fire Center, Boise, Idaho.

Services

Service Type/Location: Office Supply Center, Richard Bolling Federal Building, Kansas City, Missouri.

NPA: Alphapointe Association for the Blind, Kansas City, Missouri.

Contract Activity: U.S. Army Corps of Engineers, Kansas City, Missouri.

Sheryl D. Kennerly,
Director, Information Management.

[FR Doc. 02-27825 Filed 10-31-02; 8:45 am]

BILLING CODE 6353-01-P